DEPARTMENT OF ENERGY

Federal Energy Regulatory Commission

[Docket No. EL03-27-000]

Niagara Mohawk Power Corporation v. Huntley Power LLC; NRG Huntley Operations, Inc.; Dunkirk Power LLC; NRG Dunkirk Operations, Inc.; Oswego Harbor Power, LLC; NRG Oswego Operations, Inc; Notice of Complaint

November 29, 2002.

Take notice that on November 26, 2002 Niagara Mohawk Power Corporation (Niagara Mohawk), a subsidiary of National Grid USA, tendered for filing a complaint against Huntley Power LLC; NRG Huntley Operations, Inc.; Dunkirk Power, LLC; NRG Dunkirk Operations, Inc.; Oswego Harbor Power, LLC; and NRG Oswego Operations, Inc. (the Generators).

This complaint requests that the Commission make certain findings of fact and amplify its policies on self-supply and the scope of its jurisdiction vis-á-vis state regulators to enable enforcement of amounts owed by the Generators for station service provided to them by Niagara Mohawk.

Copies of the filing were served upon each of the Generators.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before December 16, 2002. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-30817 Filed 12-5-02; 8:45 am]

BILLING CODE 6717-01-P